INTERNATIONAL TRADE COMMISSION

[Investigation No. 731-TA-841 (Review)]

Non-Frozen Concentrated Apple Juice From China

Determination

On the basis of the record ¹ developed in the subject five-year review, the United States International Trade Commission (Commission) determines,² pursuant to section 751(c) of the Tariff Act of 1930 (19 U.S.C. 1675(c)) (the Act), that revocation of the antidumping duty order on non-frozen concentrated apple juice from China would be likely to lead to continuation or recurrence of material injury to an industry in the United States within a reasonably foreseeable time.

¹ The record is defined in § 207.2(f) of the Commission's Rules of Practice and Procedure (19 CFR 207.2(f)).

² Commissioner Shara L. Aranoff did not participate in this determination.

Background

The Commission instituted this review on May 2, 2005 (70 FR 22694) and determined on August 5, 2005 that it would conduct an expedited review (70 FR 51365, August 30, 2005).

The Commission transmitted its determination in this review to the Secretary of Commerce on September 28, 2005. The views of the Commission are contained in USITC Publication 3799 (September 2005), entitled Non-Frozen Concentrated Apple Juice from China: Investigation No. 731-TA-841 (Review).

Issued: October 18, 2005.
By order of the Commission.
Marilyn R. Abbott,
Secretary to the Commission.

[FR Doc. 05-21109 Filed 10-20-05; 8:45 am]

BILLING CODE 7020-02-P